FEDERAL COMMUNICATIONS COMMISSION

Public Information Collection Approved by Office of Management and Budget

December 1, 2000.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0957.

Expiration Date: 04/30/01

Title: Wireless Entrance 911 Service, Fourth MO&O.

Form No.: N/A.

Estimated Annual Burden: 7,500.

Description: The Fourth Memorandum Opinion and Order is part of the Commission's proceeding to establish a nationwide wireless enhanced 911 emergency communications service. The burden inherent in this decision involves guidelines for filing successful requests for waiver of the E911 Phase II regulation.

Federal Communications Commission.
Magalie Roman Salas,
Secretary.

[FR Doc. 00-31402 Filed 12-8-00; 8:45 am]

BILLING CODE 6712-01-U